DEPARTMENT OF TRANSPORTATION

Federal Aviation Administration

[Summary Notice No. PE-2004-26]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.
Issued in Washington, DC, on April 9, 2004.
Donald P. Byrne,
Assistant Chief Counsel for Regulations.

Dispositions of Petitions

Docket No.: FAA-2002-12751.

Petitioner: F.S. Air Service, Inc.

Section of 14 CFR Affected: 14 CFR 135.143(c)(2).

Description of Relief Sought/Disposition: To permit F.S. Air Service, Inc., to operate certain aircraft under part 135 without a TSO-C112 (Mode S) transponder installed on those aircraft. Grant, 4/1/2004, Exemption No. 7845A

Docket No.: FAA-2002-11509.

Petitioner: Atlantic Southeast Airlines, Inc.

Section of 14 CFR Affected: 14 CFR 121.434(c)(1)(ii).

Description of Relief Sought/Disposition: To permit Atlantic Southeast Airlines, Inc., to substitute a qualified and authorized check airmen in place of a Federal Aviation Administration inspector to observe a qualifying pilot in command (PIC) while that PIC is performing prescribed duties during at least one flight leg that includes a takeoff and a landing when completing initial or upgrade training as specified in § 121.424. Grant, 3/31/2004, Exemption No. 7135B

Docket No.: FAA-2002-12416.

Petitioner: Air Transport Association of America.

Section of 14 CFR Affected: 14 CFR 121.309(f)(2).

Description of Relief Sought/Disposition: To permit Atlantic Transport Association of America member airlines to locate the aft megaphone at door 4-left on their Boeing 747 aircraft. Grant, 4/1/2004, Exemption No. 6140E

Docket No.: FAA-2002-11495.

Petitioner: Mountain Air Cargo.

Section of 14 CFR Affected: 14 CFR 121.345(c)(2).

Description of Relief Sought/Disposition: To permit Mountain Air Cargo to operate certain aircraft under part 121 without a TSO-C112 (Mode S) transponder installed on those aircraft. Grant, 4/6/2004, Exemption No. 7801A

Docket No.: FAA-2002-11424.

Petitioner: Empire Airlines.

Section of 14 CFR Affected: 14 CFR 121.345(c).

Description of Relief Sought/Disposition: To permit Empire Airlines to operate certain aircraft under part 121 without a TSO-C112 (Mode S) transponder installed on those aircraft. Grant, 4/6/2004, Exemption No. 7800A

Docket No.: FAA-2002-11564.

Petitioner: Cedar Rapids Police Department, Air Support Division.

Section of 14 CFR Affected: 14 CFR 91.209(a) and (b).

Description of Relief Sought/Disposition: To permit the Cedar Rapids Police Department, Air Support Division, to conduct air operations without lighted position and anticollision lights required by § 91.209. Grant, 4/5/2004, Exemption No. 6780C

Docket No.: FAA-2004-17352.

Petitioner: Mr. Don M. Newman.

Section of 14 CFR Affected: 14 CFR 91.109(a) and (b)(3).

Description of Relief Sought/Disposition: To permit Mr. Don M. Newman to conduct certain flight training and to provide simulated instrument flight experience in certain Beech airplanes that are equipped with a functioning throw-over control wheel. Grant, 4/5/2004, Exemption No. 8287

Docket No.: FAA-2002-12253.

Petitioner: Continental Airlines, Inc.

Section of 14 CFR Affected: 14 CFR 121.440(a) and SFAR 58, paragraph 6(b)(3)(ii)(A).

Description of Relief Sought/Disposition: To permit Continental Airlines, Inc., to meet line check requirements using an alternative line check program. Grant, 4/5/2004, Exemption No. 7861B

Docket No.: FAA-2002-11930.

Petitioner: High Adventure Air Charter, Guides & Outfitters, Inc.

Section of 14 CFR Affected: 14 CFR 135.143(c)(2).

Description of Relief Sought/Disposition: To permit High Adventure Air Charter, Guides & Outfitters, Inc., to operate certain aircraft under part 135 without a TSO-C112 (Mode S) transponder installed on those aircraft. Grant, 3/29/2004, Exemption No. 7288B

Docket No.: FAA-2004-17381.

Petitioner: Golden Gate Helicopters, LLC.

Section of 14 CFR Affected: 14 CFR 135.143(c)(2).

Description of Relief Sought/Disposition: To permit Golden Gate Helicopters, LLC, to operate certain aircraft under part 135 without a TSO-C112 (Mode S) transponder installed on those aircraft. Grant, 3/31/2004, Exemption No. 8286

Docket No.: FAA-2001-9940.

Petitioner: Peninsula Airways, Inc., d.b.a. PenAir.

Section of 14 CFR Affected: 14 CFR 121.574(a)(1) and (3).

Description of Relief Sought/Disposition: To permit Peninsula Airways, Inc., d.b.a. PenAir, to carry and operate oxygen storage and dispensing equipment for medical use by patients requiring emergency or continuing medical attention while onboard an aircraft operated by PenAir when the equipment is furnished and maintained by a hospital treating the patient. Grant, 3/29/2004, Exemption No. 6523D

Docket No.: FAA-2002-11578.

Petitioner: Northwest Seaplanes, Inc.

Section of 14 CFR Affected: 14 CFR 135.203(a)(1).

Description of Relief Sought/Disposition: To permit Northwest Seaplanes, Inc., to conduct operations outside controlled airspace, over water, at an altitude below 500 feet above the surface but not less than 200 feet above the surface. Grant, 3/29/2004, Exemption No. 6461E

[FR Doc. 04-8502 Filed 4-14-04; 8:45 am]

BILLING CODE 4910-13-P